NATIONAL AERONAUTICS AND SPACE ADMINISTRATION

[Notice: (05-122)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Kathy Shaeffer, Mail Suite 6M70, Office of the Chief Information Officer, National Aeronautics and Space Administration, Washington, DC 20546-0001.

FOR FURTHER INFORMATION CONTACT: Requests for additional information or copies of the information collection instrument(s) and instructions should be directed to Kathy Shaeffer, Acting NASA Reports Officer, Office of the Chief Information Officer, NASA Headquarters, 300 E Street SW., Mail Suite 6M70, Washington, DC 20546, (202) 358-1230, kathleen.shaeffer-1@nasa.gov.

SUPPLEMENTARY INFORMATION:

I. Abstract

The National Aeronautics and Space Administration (NASA) is requesting renewal of an existing collection that is used to ensure NASA collects racial and ethic data information from on-line job applicants to determine if NASA's recruitment efforts are reaching all segments of the country, as required by Federal law.

II. Method of Collection

NASA uses electronic methods to collect information from collection respondents.

III. Data

Title: NASA Voluntary On-Line Job Applicant Racial and Ethnic Data Collection.

OMB Number: 2700-0103.

Type of review: Extension of a currently approved collection.

Affected Public: Individuals or households, Federal Government.

Estimated Number of Respondents: 40,000.

Estimated Time Per Response: 5 minutes.

Estimated Total Annual Burden Hours: 3,334.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Dated: July 19, 2005.
Patricia L. Dunnington,
Chief Information Officer.

[FR Doc. 05-14689 Filed 7-25-05; 8:45 am]

BILLING CODE 7510-13-P